LEGAL SERVICES CORPORATION

Notice of Availability of Calendar Year 2016 Competitive Grant Funds

AGENCY: Legal Services Corporation.

ACTION: Solicitation for Proposals for the Provision of Civil Legal Services in Southeastern Michigan.

SUMMARY: The Legal Services Corporation (LSC) is the national organization charged with administering federal funds provided for civil legal services to low-income people.

LSC is reopening the competitive bidding process for FY 2016 funding for service area MI-13 in Michigan. Service area MI-13 is comprised of Macomb, Oakland, and Wayne Counties in Michigan. LSC is soliciting grant proposals from interested parties who are qualified to provide effective, efficient, and high quality civil legal services to the eligible client population in service area MI-13.

While the exact amount of congressionally appropriated funds and the date and terms of availability for calendar year 2016 are not known yet, LSC anticipates that the funding amount will be similar to calendar year 2015 funding, which is $4,368,810.

DATES: See SUPPLEMENTARY INFORMATION section for grants competition dates.

ADDRESSES: Legal Services Corporation—Competitive Grants, 3333 K Street NW., Third Floor, Washington, DC 20007-3522.

FOR FURTHER INFORMATION CONTACT: The Office of Program Performance by email at competition@lsc.gov, or visit the grants competition Web site at http://www.lsc.gov/grants-grantee-resources/our-grant-programs/basic-field-grant.

SUPPLEMENTARY INFORMATION: The Request for Proposals (RFP) is available at http://www.lsc.gov/grants-grantee-resources/our-grant-programs/basic-field-grant. Applicants are required to use the “Standard RFP Narrative Instruction” to prepare the grant proposal. Applicants must file a Notice of Intent to Compete (NIC) to participate in the competitive grants process. Applicants must file the NIC by September 30, 2015, 5:00 p.m., E.T. Applicants must submit grant proposals by October 23, 2015, 5:00 p.m., E.T. The dates in this notice supersede the dates contained in the RFP.

LSC is seeking proposals from: (1) Non-profit organizations that have as a purpose the provision of legal assistance to eligible clients; (2) private attorneys; (3) groups of private attorneys or law firms; (4) state or local governments; and (5) sub-state regional planning and coordination agencies that are composed of sub-state areas and whose governing boards are controlled by locally elected officials.

The RFP, containing the NIC and grant application, guidelines, proposal content requirements, service area descriptions, and specific selection criteria, is available from http://www.lsc.gov/grants-grantee-resources/our-grant-programs/basic-field-grant.

LSC will post all updates and/or changes to this notice at http://www.lsc.gov/grants-grantee-resources/our-grant-programs/basic-field-grant.

Interested parties are asked to visit http://www.lsc.gov/grants-grantee-resources/our-grant-programs/basic-field-grant regularly for updates on the LSC competitive grants process.

Dated: September 17, 2015.
Stefanie K. Davis,
Assistant General Counsel.

[FR Doc. 2015-24022 Filed 9-21-15; 8:45 am]

BILLING CODE 7050-01-P